FEDERAL MARITIME COMMISSION

Agency Information Collection Activities: 30-Day Public Comment Request

AGENCY: Federal Maritime Commission.

ACTION: Notice and request for comments.

SUMMARY: The Federal Maritime Commission (Commission) is giving public notice that the agency has submitted to the Office of Management and Budget (OMB) for approval a new data collection concerning containerized vessel imports and exports to and from the United States described in this notice. The public is invited to comment on the proposed information collection pursuant to the Paperwork Reduction Act of 1995.

DATES: Written comments must be submitted on or before January 9, 2023.

ADDRESSES: Comments should be addressed to: Office of Information and Regulatory Affairs, Office of Management and Budget, Attention: Rita Young, Desk Officer for Federal Maritime Commission, OIRA_Submission@OMB.EOP.GOV, and to: Lucille L. Marvin, Managing Director, Office of the Managing Director, Federal Maritime Commission, omd@fmc.gov.

Please send separate comments for each specific information collection listed below and reference the information collection's title and OMB number in your comments.

FOR FURTHER INFORMATION CONTACT: Copies of the information collections and instructions, or copies of any comments received, may be obtained by contacting Tara Nielsen at 202-523-5800 or omd@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.). On August 8, 2022, the Commission published a notice and request for comments in the Federal Register (87 FR 48182) regarding collection of information on Container Vessel Imports and Exports. The Commission received six comments from the Maritime Exchange for the Delaware River and Bay, World Shipping Council, American Cotton Shippers Association, BassTech International, National Industrial Transportation League, and National Fisheries Institute. The American Cotton Shippers Association, National Fisheries Institute, BassTech, and National Industrial Transportation League supported the data collection. Both the American Cotton Shippers Association and the National Industrial Transportation League identified benefits to the shipping public from this data collection due to increased transparency and insight. BassTech International recommended that information collected should include equipment type and port. This information is included in the current data collection template.

The Maritime Exchange for the Delaware River and Bay opposed the data collection as redundant with existing Customs and Border Protection (CBP) collections, though they noted that the CBP automated collection of export data is still in a pilot program. The World Shipping Council likewise opposed the data collection noting the CBP data collection, and also suggested supplementing data gaps with information from the Army Corps of Engineers, Bureau of Transportation Statistics, and commercial sources. They further contended that the PRA requires the FMC to utilize data being provided to other Federal agencies.

The Commission acknowledges that the CBP has a rich source of data on U.S. imports and intends to use CBP data to validate the import data that it collects. Additionally, the Commission notes that the commercial sources of data referenced by the World Shipping Council are largely derived from government data and will be helpful in verifying the accuracy of the data submitted to the Commission. None of these data sources (government or commercial) even if used in concert, provide the level and scope of information required to meet the Congressional requirements under the Ocean Shipping Reform Act of 2022 (OSRA 2022). The Commission, however, intends to minimize the data reporting burden as much as possible by using definitions and terminology in its data collection that align with other Federal agency data collections. This will allow carriers to use and leverage their existing systems to generate the reports for items that have overlap.

Comments submitted in response to this notice will be included or summarized in our request for the Office of Management and Budget (OMB) approval of the relevant information collection. All comments are part of the public record and subject to disclosure. Please do not include any confidential or inappropriate material in your comments. We invite comments on the value of collecting information on cargo loaded and off-loaded outside of the U.S. on service strings that include U.S. port calls.

Information Collections Open for Comment

Title: Container vessel imports and exports.

OMB Approval Number: 3072-XXXX.

Abstract: The Ocean Shipping Reform Act of 2022 (OSRA 2022) includes the following language, “The Federal Maritime Commission shall publish on its website a calendar quarterly report that describes the total import and export tonnage and the total loaded and empty 20-foot equivalent units per vessel (making port in the United States, including any territory or possession of the United States) operated by each ocean common carrier covered under this chapter. Ocean common carriers under this chapter shall provide to the Commission all necessary information, as determined by the Commission, for completion of this report.” 46 U.S.C. 41110. The FMC will request information on containerized imports and exports from each identified common carrier on a monthly basis. The data elements will include both tonnage and empty and laden 20-foot, 40-foot, and 45-foot containers discharged and loaded. The scope will include each port of call on service strings that include U.S. calls by vessel-operating common carriers operating in the U.S. foreign oceanborne commerce.

The information will be used to compile and publish a quarterly report on total U.S. export and import tonnage deployed and total loaded and empty 20-foot equivalent units per vessel operated by vessel-operating common carriers. The universe will be vessel-operating common carriers that transport 1,500 or more 20-foot equivalent units per month (total across imports and exports, regardless of whether they are laden or empty) in or out of the U.S., in the U.S. oceanborne foreign commerce. The Commission estimates that approximately 70 of the 154 currently registered vessel-operating common carriers transport 1,500 or more 20-foot equivalent units per month, totaling over 99 percent of imported and exported containerized cargo.

Current Actions: This information being submitted contains a new data collection.

Type of Review: New data collection.

Needs and Uses: The Commission will use collected data to publish a quarterly report as directed by OSRA 2022.

Frequency: This information will be collected monthly.

Type of Respondents: The universe will be carriers who transport 1,500 20-foot equivalent units or more per month (total across imports and exports, regardless of whether they are laden) in or out of the U.S., in the U.S. oceanborne foreign commerce.

Number of Annual Respondents: The Commission estimates an annual respondent universe of 70. The Commission expects the estimated number of annual respondents to remain at 70 in the future.

Estimated Time per Response: The time per response is estimated at 80 person-hours for reporting.

Total Annual Burden: For the 70 annual respondents, the burden is calculated as 70 × 80 hours = 5,600 hours.

William Cody,
Secretary.

[FR Doc. 2022-26804 Filed 12-8-22; 8:45 am]

BILLING CODE 6730-02-P